DEPARTMENT OF HEALTH AND HUMAN SERVICES

Centers for Disease Control and Prevention

[60 Day-06-06BK]

Proposed Data Collections Submitted for Public Comment and Recommendations

In compliance with the requirement of section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-5960 and send comments to Seleda Perryman, CDC Assistant Reports Clearance Officer, 1600 Clifton Road, MS-D74, Atlanta, GA 30333 or send an e-mail to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

Assessment of Occupational Exposure Management—New—Division of Healthcare Quality Promotion (DHQP), National Center for Infectious Diseases (NCID), Centers for Disease Control and Prevention, (CDC).

Background and Brief Description

The Division of Healthcare Quality Promotion (DHQP), (CDC), defines its primary mission as the protection of patients and healthcare personnel through the promotion of safety, quality, and value in the healthcare delivery system. One priority is preventing transmission of blood borne pathogens to healthcare personnel during delivery of medical care. The purpose of this project is to conduct an assessment of personnel safety in healthcare settings in the United States, specifically management of occupational blood exposures as part of a larger plan to prevent the transmission of bloodborne pathogens. While the United States Public Health Service protocols on management of occupational exposure are widely distributed, the awareness and implementation of these protocols by providers of health services are unknown.

CDC has undertaken the task of conducting a survey assessing occupational exposure management programs that will address safety for healthcare personnel. The survey is intended to assess surveillance reporting, laboratory diagnostic capacity, general policies on managing exposures, staffing health consultants, staff training, and provision of counseling for exposed workers. The results of the survey will be used to ensure that surveillance activities, reporting procedures for occupational exposures, on-site laboratory services, and occupational exposure management policies are consistent with national guidelines. Results will also be used to provide facilities with up-to-date information on infection control.

Respondents from each of the four healthcare settings will be asked to complete the survey. The anticipated number of respondents is shown below. Only one response is requested from each respondent. The estimated average length of time necessary to complete a survey is 20 minutes. There is no cost to respondents other than their time.

Estimated Annualized Burden Hours
Respondent | Number of respondents | Number of responses per respondent | Average burden per response (in hours) | Total burden (hours)
Acute-Care Facilities | 865 | 1 | 20/60 | 288
Ambulatory Surgery Centers | 353 | 1 | 20/60 | 118
Long-term Care Facilities | 3634 | 1 | 20/60 | 1211
Dialysis Centers | 468 | 1 | 20/60 | 156
Total | 5320 | 1 |  | 1773

Dated: June 26, 2006.
Joan F. Karr,
Acting Reports Clearance Officer, Centers for Disease Control and Prevention.

[FR Doc. E6-10359 Filed 6-30-06; 8:45 am]

BILLING CODE 4163-18-P